DEPARTMENT OF TRANSPORTATION

National Highway Traffic Safety Administration

Reports, Forms and Record Keeping Requirements Agency Information Collection Activity Under OMB Review

AGENCY: National Highway Traffic Safety Administration, U.S. Department of Transportation.

ACTION: Notice; correction.

SUMMARY: This document corrects a date and citation in a Federal Register notice published on Tuesday, May 27, 2014, that announced an information collection request (OMB Control No. 2127-0512) was forwarded to the Office of Management and Budget for review and comment.

FOR FURTHER INFORMATION CONTACT: Mrs. Lori Summers, U.S. Department of Transportation, NHTSA, Room W43-320, 1200 New Jersey Avenue SE., Washington, DC 20590. Mrs. Summer's telephone number is (202) 366-4917 and fax number is (202) 366-7002.

Correction

In the Federal Register of May 27, 2014, in FR Doc. 2014-12129, on page 30229, in the second column, the last sentence of the first paragraph of the “Summary” section is corrected to read:

“The Federal Register Notice with a 60-day comment period was published on March 21, 2014 (79 FR 15797).”

David M. Hines,
Acting Associate Administrator for Rulemaking.

[FR Doc. 2014-15467 Filed 7-1-14; 8:45 am]

BILLING CODE P